DEPARTMENT OF THE INTERIOR

National Park Service

Notice of Inventory Completion: Museum of Anthropology, Washington State University, Pullman, WA

AGENCY: National Park Service, Interior.

ACTION: Notice.

Notice is here given in accordance with provisions of the Native American Graves Protection and Repatriation Act (NAGPRA), 25 U.S.C. 3003, of the completion of an inventory of human remains and associated funerary objects in the possession of the Museum of Anthropology, Washington State University, Pullman, WA. The human remains and associated funerary objects were removed from Grays Harbor County, WA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by the Museum of Anthropology, Washington State University professional staff in consultation with representatives of the Confederated Tribes of the Chehalis Reservation, Washington.

In 1969 and 1970, human remains representing a minimum of nine individuals were removed from the Minard site (45-GH-15) in Grays Harbor County, WA, by Richard Daugherty, an employee, and Thomas E. Roll, graduate student, of Washington State University. The excavations were conducted under research funds allocated by the Washington State Legislature. No known individuals were identified. The 82 associated funerary objects are 2 nipple topped mauls, 1 ground slate knife, 1 ground stone club, 1 necklace of rolled copper and dentalium beads, 1 straight adze with a carved whale bone handle, 1 knife or small adze-chisel, 1 metal chisel, 1 metal awl, 1 lot of metal fragments from wood working tools, 5 lots of nails, 2 lots of glass beads, 2 lots of tin can fragments, 5 lots of unidentified metal fragments, 2 spoons, 3 lots of wood fragments, 14 thimbles on a string, 1 lot of unidentified plant material, and 38 lots of dishes and dish fragments.

Osteological evidence indicates that the human remains from the Minard site represent nine individuals of Native American ancestry. The associated funerary objects found with one of the individuals indicate an interment during the early 19th century. Stratigraphic information indicates that the other individuals were interred within the last 1,000 years. The Minard site is located at or near the traditional Copalis village of Oyhut. The Copalis are considered to have been a band of the Lower Chehalis whose traditional territory encompassed the lower reaches of the Chehalis River and the present-day county of Grays Harbor. The Minard site is located within the area identified by the Indian Claims Commission as the aboriginal territory of the Confederated Tribes of the Chehalis Reservation, Washington. Continuities within the archeological record and oral tradition, indicates that ancestors of the present-day Confederated Tribes of the Chehalis Reservation, Washington resided at the Minard site during the prehistoric and early historic periods.

Officials of the Museum of Anthropology, Washington State University have determined that, pursuant to 25 U.S.C. 3001 (9-10), the human remains described above represent the physical remains of nine individuals of Native American ancestry. Officials of the Museum of Anthropology, Washington State University also have determined that, pursuant to 25 U.S.C. 3001 (3)(A), the 82 objects described above are reasonably believed to have been placed with or near individual human remains at the time of death or later as part of the death rite or ceremony. Lastly, officials of the Museum of Anthropology, Washington State University have determined that, pursuant to 25 U.S.C. 3001 (2), there is a relationship of shared group identity that can be reasonably traced between the Native American human remains and associated funerary objects and the Confederated Tribes of the Chehalis Reservation, Washington.

Representatives of any other Indian tribe that believes itself to be culturally affiliated with the human remains and associated funerary objects should contact Mary Collins, Associate Director, Museum of Anthropology, Washington State University, P.O. Box 62291, Pullman, WA 99164-4910, telephone (509) 335-4314, before June 18, 2007. Repatriation of the human remains and associated funerary objects to the Confederated Tribes of the Chehalis Reservation, Washington may proceed after that date if no additional claimants come forward.

The Museum of Anthropology, Washington State University is responsible for notifying the Confederated Tribes of the Chehalis Reservation, Washington that this notice has been published.

Dated: April 15, 2007.
Sherry Hutt,
Manager, National NAGPRA Program.

[FR Doc. E7-9455 Filed 5-16-07; 8:45 am]

BILLING CODE 4312-50-S